DEPARTMENT OF THE INTERIOR

National Park Service

Announcement of Gates of the Arctic National Park Subsistence Resource Commission Meeting

AGENCY: National Park Service, Interior.

ACTION: Announcement of Gates of the Arctic National Park Subsistence Resource Commission (SRC) meeting.

SUMMARY: Notice is hereby given in accordance with the Federal Advisory Committee Act that a meeting of the Gates of the Arctic National Park Subsistence Resource Commissions will be held at Shungnak, Alaska. The purpose of the meeting will be to continue work on currently authorized and proposed National Park Service subsistence hunting program recommendations including other related subsistence management issues. The meeting will be open to the public. Any person may file with the Commission a written statement concerning the matters to be discussed.

The Subsistence Resource Commission is authorized under Title VIII, Section 808, of the Alaska National Interest Lands Conservation Act, Pub. L. 96-487, and operates in accordance with the provisions of the Federal Advisory Committee Act.

DATES: The meeting will begin on Tuesday, May 20, 2003, at 9 a.m. and conclude at approximately 5 p.m. The meeting will reconvene at 9 a.m. on Wednesday, May 21, 2003, and adjourn at approximately 5 p.m. If weather or local circumstances prevent the Commission from meeting on the proposed dates, the Commission will meet on May 28, 2003 and May 29, 2003.

Location: The Commission plans to conduct the public meeting at the National Guard Armory in Shungnak, Alaska.

SUPPLEMENTARY INFORMATION: Notice of this meeting will be published in local newspapers and announced on local radio stations prior to the meeting dates. The agenda for the meeting is as follows:

1. Call to order (SRC Chair).

2. SRC Roll Call and Confirmation of Quorum.

3. SRC Chair and Superintendent's Welcome and Introductions.

4. Review and Approve Agenda.

5. Review and adopt minutes from November 7-8, 2002 meeting.

6. Review Commission Purpose and Status of Membership.

7. Superintendent's Report.

8. Public and Agency Comments.

9. Durational Residency.

10. John River Water Quality Study.

11. Customary Trade Federal Subsistence Regulations.

12. Review New Federal Subsistence Board Wildlife Proposals.

13. Alatna River Archeological Study.

14. Cultural Resources Research Update.

15. Backcountry/Wilderness Planning Update.

16. Federal Subsistence Board Update.

17. Western Arctic Caribou Heard Working Group Update.

18. State Board of Game Update.

19. Set time and place of next SRC meeting.

20. Adjournment

Draft minutes of the meeting will be available for public inspection approximately six weeks after the meeting from the Superintendent, Gates of the Arctic National Park and Preserve, 201 First Ave., Fairbanks, Alaska, 99701.

FOR FURTHER INFORMATION CONTACT: Dave Mills, Superintendent or Fred Andersen, Subsistence Manager at park headquarters, telephone (907) 457-5752.

Robert L. Arnberger,
Regional Director, Alaska.

[FR Doc. 03-6209 Filed 3-13-03; 8:45 am]

BILLING CODE 4310-70-P